DEPARTMENT OF TRANSPORTATION

Federal Aviation Administration

Thirtieth RTCA SC-217 Aeronautical Databases Joint Plenary With WG-44

AGENCY: Federal Aviation Administration (FAA), U.S. Department of Transportation (DOT).

ACTION: Thirtieth RTCA SC-217 Aeronautical Databases Joint Plenary with WG-44.

SUMMARY: The FAA is issuing this notice to advise the public of the Thirtieth RTCA SC-217 Aeronautical Databases Plenary held jointly with WG-44.

DATES: The meeting will be held September 13-15, 2017 from 9:00 a.m.-5:00 p.m.

ADDRESSES: The meeting will be held at: EUROCAE Facilities, Triangle, 9-23 Rue Paul Lafargue, 93200 Saint-Denis, France.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirtieth RTCA SC-217 Aeronautical Databases Joint Plenary with WG-44. The agenda will include the following:

Wednesday September 13, 2017, 9:00 a.m.-5:00 p.m.

1. Co-Chairmen's Remarks and Introductions

2. Housekeeping & Meeting Logistics

3. DFO Statement and RTCA/EUROCAE IP and Membership Policies

4. Approve Minutes From SC217 29th/WG 44 25th Meeting

5. Review and Approve Meeting Agenda for SC217 30th/WG44 26th Meeting

6. Action Item List Review

7. Presentations (TBD)

8. Break Into Working Groups

Thursday September 14, 2017, 9:00 a.m.-5:00 p.m.

1. Working Group Sessions

Friday September 15, 2017, 9:00 a.m.-5:00 p.m.

1. Working Group Sessions in the Morning

2. Meeting Wrap-Up: Main Conclusions and Way Forward

3. Review of Action Items

4. Review of Document Update Status

5. Next Meetings

6. Any Other Business

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on August 8, 2017.
Mohannad Dawoud,
Management & Program Analyst, Partnership Contracts Branch, ANG-A17, NextGen, Procurement Services Division, Federal Aviation Administration.

[FR Doc. 2017-17055 Filed 8-11-17; 8:45 am]

BILLING CODE 4910-13-P